DEPARTMENT OF TRANSPORTATION

Federal Aviation Administration

[Summary Notice No. PE-2000-09]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR part 11), this notice contains a summary of certain petitions seeking relief from specified requirements of the Federal Aviation Regulations (14 CFR chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 3, 2000.

ADDRESSES: Send comments on any petition in triplicate to: Federal Aviation Administration, Office of the Chief Counsel, Attn: Rule Docket (AGC-200), Petition Docket No. ___, 800 Independence Avenue, SW., Washington, DC 20591.

Comments may also be sent electronically to the following internet address: 9-NPRM-cmts@faa.gov.

The petition, any comments received, and a copy of any final disposition are filed in the assigned regulatory docket and are available for examination in the Rules Docket (AGC-200), Room 915G, FAA Headquarters Building (FOB 10A), 800 Independence Avenue, SW, Washington, DC 20591; telephone (202) 267-3132.

FOR FURTHER INFORMATION CONTACT: Cherie Jack (202) 267-7271 or Terry Stubblefield (202) 267-7624, Office of Rulemaking (ARM-1), Federal Aviation Administration, 800 Independence Avenue, SW, Washington, DC 20591.

This notice is published pursuant to paragraphs (c), (e), and (g) of § 11.27 of part 11 of the Federal Aviation Regulations (14 CFR Part 11).

Issued in Washington, D.C. on March 13, 2000.
Michael E. Chase,
Acting Assistant Chief Counsel for Regulations.

Petitions for Exemption

Docket No.: 29883.

Petitioner: Embry-Riddle Aeronautical University.

Section of the FAR Affected: 14 CFR 61.65(a)(1).

Description of Relief Sought: To permit students enrolled in ERAUs Advanced General Aviation Transport Experiments (AGATE) Modified Intergrated Curriculum (AGATE III) to take concurrently the private pilot practical test and the instrument rating practical test.

Dispositions of Petitions

Docket No.: 29103.

Petitioner: Era Helicopters.

Sections of the FAR Affected: 14 CFR 135.152(a).

Description of Relief Sought/Disposition: To permit Era to operate three Sikorsky S-61N helicopters (Registration Nos. N561EH, N562EH, and N563EH; Serial Nos. 61471, 61257, and 61808, respectively) without an approved digital flight data recorder installed on each helicopter.

GRANT, 1/31/00, Exemption No. 6712B.

Docket No.: 29109.

Petitioner: Mobil Business Resources Corporation.

Sections of the FAR Affected: 14 CFR 135.152(a).

Description of Relief Sought/Disposition: To permit MBRC to operate its Sikorsky S-76A helicopters under part 135 without an approved digital flight data recorder installed on each helicopter.

GRANT, 1/31/00, Exemption No. 6788A.

Docket No.: 28855.

Petitioner: Offshore Logistics, Inc.

Sections of the FAR Affected: 14 CFR 135.152(a).

Description of Relief Sought/Disposition: To permit Offshore to operate 10 Bell 212 helicopters, 2 Bell 214ST helicopters, 7 Bell 412 helicopters, and 7 Sikorsky S-76A helicopters under part 135 without an approved digital flight data recorder installed on each helicopter.

GRANT, 1/31/00, Exemption No. 6714B.

Docket No.: 28905.

Petitioner: Petroleum Helicopters, Inc.

Sections of the FAR Affected: 14 CFR 135.152(a).

Description of Relief Sought/Disposition: To permit PHI to operate three Bell 212 helicopters (Registration Nos. N1074C, N5009N, and N5736D; Serial Nos. 30989, 30915, and 31135, respectively), two Bell 214ST helicopters (Registration Nos. N59805 and N59806, Serial Nos. 28141 and 28140, respectively), three Bell 412 helicopters (Registration Nos. N2014K, N2258f, and N3893L; Serial Nos. 33020, 33073, and 33006, respectively), and one Bell 412SP helicopter (Registration No. N142PH, Serial No. 33150) under part 135 without an approved digital flight data recorder installed on each helicopter.

GRANT, 1/31/00, Exemption No. 6713D.

Docket No.: 29142.

Petitioner: Geo-Seis Helicopters, Inc.

Sections of the FAR Affected: 14 CFR 135.152(a).

Description of Relief Sought/Disposition: To permit Geo-Seis to operate one Bell 212 helicopter (Registration No. N49678, Serial No. 30743) under part 135 without an approved digital flight data recorder installed on the helicopter.

GRANT, 1/31/00, Exemption No. 6785A.

Docket No.: 29174.

Petitioner: Hawaii Helicopters, Inc.

Sections of the FAR Affected: 14 CFR 135.152(a).

Description of Relief Sought/Disposition: To permit HHI to operate its Sikorsky S-61N helicopter (U.S. Registration No. N29111, Serial No. 61711) and its Sikorsky S-76A helicopter (Canadian Registration No. C-CHJG, Serial No. 760015) under part 135 without an approved digital flight data recorder installed on each helicopter.

GRANT, 1/31/00, Exemption No. 6789.

Docket No.: 29172.

Petitioner: Heli-Jet Corporation.

Sections of the FAR Affected: 14 CFR 135.152(a).

Description of Relief Sought/Disposition: To permit Heli-Jet to operate five Bell 212 helicopters under part 135 without an approved digital flight data recorder installed on each helicopter.

GRANT, 1/31/00, Exemption No. 6796A.

Docket No.: 27867.

Petitioner: Department of the Navy, United States Marine Corps.

Sections of the FAR Affected: 14 CFR 91.209 (a) and (b).

Description of Relief Sought/Disposition: To continue to permit USMC to conduct helicopter night-vision flight device training operations without lighted aircraft position lights.

GRANT, 1/31/00, Exemption No. 5978C.

Docket No.: 29759.

Petitioner: Aviation Ventures, Inc., doing business as Vision Air.

Sections of the FAR Affected: 14 CFR 135.152(a).

Description of Relief Sought/Disposition: To permit Vision Air to operate up to 10 Dornier 228 (DO228) airplanes under part 135 without the required digital flight data recorder (DFDR) until the FAA can amend § 135.152(k) to permanently except the DO229 airplane from the requirements of § 135.152.

GRANT, 1/31/00, Exemption No. 7009A.

Docket No.: 29820.

Petitioner: Bombardier Completion Centre, Inc.

Sections of the FAR Affected: 14 CFR 25.785(b).

Description of Relief Sought/Disposition: To exempt Bombardier from the requirements of § 25,785(b), for the general occupant protection requirements for occupants of multiple place side-facing seats that are occupied during takeoff and landing for Bombardier Global Model BD-7001A10 airplanes manufactured prior to January 1, 2004.

GRANT, 1/31/00, Exemption No. 7120.

[FR Doc. 00-6557 Filed 3-15-00; 8:45 am]

BILLING CODE 4910-13-M